FEDERAL COMMUNICATIONS COMMISSION

47 CFR Part 64

[WC Docket No. 03-225; FCC 04-182]

Request To Update Default Compensation Rate for Dial-Around Calls From Payphones

AGENCY: Federal Communications Commission.

ACTION: Correcting amendments.

SUMMARY: This document contains corrections to the final regulations in FCC 04-182, which were published in the Federal Register in August 2004. The regulations are related to part 64 of the Commission's rules.

DATES: The rules became effective September 27, 2004.

FOR FURTHER INFORMATION CONTACT: Lynne Hewitt Engledow, Federal Communications Commission, 445 12th Street, SW., Washington, DC 20554, (202) 418-1520 or via the Internet at lynne.engledow@fcc.gov.

SUPPLEMENTARY INFORMATION: This Erratum makes corrections to the Report and Order in the above-captioned proceeding released on August 12, 2004 (69 FR 52444, August 26, 2004). As published, the final regulations contain errors which may prove to be misleading and need to be clarified.

List of Subjects in 47 CFR Part 64

Communications common carriers, Telecommunications, Telephones.

Federal Communications Commission.
Marlene H. Dortch,
Secretary.

Accordingly, 47 CFR part 64 is corrected by making the following correcting amendment:

PART 64—MISCELLANEOUS RULES RELATING TO COMMON CARRIERS

1. The authority for part 64 continues to read:

Authority: 47 U.S.C. 154, 254(k); secs. 403(b)(2)(B), (c), Pub. L. 104-104, 110 Stat. 56. Interpret or apply 47 U.S.C. 201, 218, 222, 225, 226, 228, and 254(k) unless otherwise noted.

2. Section 64.1300 is revised to read as follows:

§ 64.1300 Payphone compensation obligation.

(a) For purposes of this subpart, a Completing Carrier is a long distance carrier or switch-based long distance reseller that completes a coinless access code or subscriber toll-free payphone call or a local exchange carrier that completes a local, coinless access code or subscriber toll-free payphone call.

(b) Except as provided herein, a Completing Carrier that completes a coinless access code or subscriber toll-free payphone call from a switch that the Completing Carrier either owns or leases shall compensate the payphone service provider for that call at a rate agreed upon by the parties by contract.

(c) The compensation obligation set forth herein shall not apply to calls to emergency numbers, calls by hearing disabled persons to a telecommunications relay service or local calls for which the caller has made the required coin deposit.

(d) In the absence of an agreement as required by paragraph (b) of this section, the carrier is obligated to compensate the payphone service provider at a per-call rate of $.494.

[FR Doc. 06-478 Filed 1-18-06; 8:45 am]

BILLING CODE 6712-01-P